DEPARTMENT OF ENERGY

Federal Energy Regulatory Commission

Combined Notice of Filings #1

Take notice that the Commission received the following electric corporate filings:

Docket Numbers: EC21-29-000.

Applicants: Basin Electric Power Cooperative, Inc.

Description: Application for Authorization Under Section 203 of the Federal Power Act, et al. of Basin Electric Power Cooperative.

Filed Date: 11/25/20.

Accession Number: 20201125-5167.

Comments Due: 5 p.m. ET 12/16/20.

Take notice that the Commission received the following electric rate filings:

Docket Numbers: ER10-1818-024; ER10-1819-027; ER10-1820-030.

Applicants: Public Service Company of Colorado, Northern States Power Company, a Minnesota corporation, Northern States Power Company, a Wisconsin corporation.

Description: Notice of Change in Status of Public Service Company of Colorado, et al.

Filed Date: 11/25/20.

Accession Number: 20201125-5195.

Comments Due: 5 p.m. ET 12/16/20.

Docket Numbers: ER10-2531-011.

Applicants: Cedar Creek Wind Energy, LLC.

Description: Notice of Non-Material Change in Status of Cedar Creek Wind Energy, LLC.

Filed Date: 11/25/20.

Accession Number: 20201125-5194.

Comments Due: 5 p.m. ET 12/16/20.

Docket Numbers: ER20-1736-002.

Applicants: Versant Power.

Description: Compliance filing: Order No. 864 Compliance Filing—Response to Staff Letter (ER20-1736-__) to be effective N/A.

Filed Date: 11/25/20.

Accession Number: 20201125-5001.

Comments Due: 5 p.m. ET 12/16/20.

Docket Numbers: ER20-1739-001.

Applicants: American Transmission Systems, Incorporated, PJM Interconnection, L.L.C.

Description: Compliance filing: ATSI Response to Deficiency Letter for Order No. 864 Compliance to be effective N/A.

Filed Date: 11/25/20.

Accession Number: 20201125-5013.

Comments Due: 5 p.m. ET 12/16/20.

Docket Numbers: ER21-116-001.

Applicants: XO Energy CAL, LP.

Description: Tariff Amendment: Amendment to 1 to be effective 10/16/2020.

Filed Date: 11/25/20.

Accession Number: 20201125-5152.

Comments Due: 5 p.m. ET 12/16/20.

Docket Numbers: ER21-496-000.

Applicants: ISO New England Inc., New England Power Pool.

Description: ISO New England Inc. submits Installed Capacity Requirement, Hydro Quebec Interconnection Capability Credits and Related Values for the 2021-2022, 2022-2023 and 2023-2024 Annual Reconfiguration Auctions.

Filed Date: 11/25/20.

Accession Number: 20201125-5179.

Comments Due: 5 p.m. ET 12/16/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2020.
Kimberly D. Bose,
Secretary.

[FR Doc. 2020-26708 Filed 12-3-20; 8:45 am]

BILLING CODE 6717-01-P